DEPARTMENT OF TRANSPORTATION

Federal Aviation Administration

[Policy Statement Number PS-ACE100-2004-10023]

Proposed Small Airplane Directorate Policy on Flammability of Electrical Wire

AGENCY: Federal Aviation Administration, DOT.

ACTION: Notice of availability; request for comments.

SUMMARY: This notice announces a Federal Aviation Administration (FAA) proposed policy on the applicability of AC 43.13-1B for flammability of electrical wire used in part 23 aircraft per 14 CFR 23.853, 23.1359. The FAA proposes that any electrical wire listed in section 7 of AC 43.13-1B complies with part 23 flammability requirements. This notice is necessary to advise the public of this FAA policy and give all interested persons an opportunity to present their views on it.

DATES: Send your comments by April 26, 2004.

Discussion: The Small Airplane Directorate is making the proposed policy statement on flammability of electrical wire used in part 23 aircraft available to the public and all manufacturers for their comments.

ADDRESSES: Copies of the proposed policy statement, PS-ACE100-2004-10023, may be requested from the following: Small Airplane Directorate, Standards Office (ACE-110), Aircraft Certification Service, Federal Aviation Administration, 901 Locust Street, Room 301, Kansas City, MO 64106. The proposed policy statement is also available on the Internet at the following address http://www.faa.gov/certification/aircraft. Send all comments on this proposed policy statement to the individual identified under FOR FURTHER INFORMATION CONTACT.

FOR FURTHER INFORMATION CONTACT: Les Taylor, Federal Aviation Administration, Small Airplane Directorate, Regulations & Policy, ACE-111, 901 Locust Street, Room 301, Kansas City, Missouri 64106; telephone: (816) 329-4134; fax: 816-329-4090; e-mail: leslie.b.taylor@faa.gov.

SUPPLEMENTARY INFORMATION:

Comments Invited

We invite your comments on this proposed policy statement. Send any data or views as you may desire. Identify the proposed Policy Statement Number PS-ACE100-2004-10023 on your comments, and if you submit your comments in writing, send two copies of your comments to the above address. The Small Airplane Directorate will consider all communications received on or before the closing date for comments. We may change the proposal contained in this notice because of the comments received.

Comments sent by fax or the Internet must contain “Comments to proposed policy statement PS-ACE100-2004-10023” in the subject line. You do not need to send two copies if you fax your comments or send them through the Internet. If you send comments over the Internet as an attached electronic file, format it in either Microsoft Word 97 for Windows or ASCII text. State what specific change you are seeking to the proposed policy memorandum and include justification (for example, reasons or data) for each request.

Issued in Kansas City, Missouri on February 23, 2004.
James E. Jackson,
Acting Manager, Small Airplane Directorate, Aircraft Certification Service.

[FR Doc. 04-6745 Filed 3-25-04; 8:45 am]

BILLING CODE 4910-13-P